RAILROAD RETIREMENT BOARD

Agency Forms Submitted for OMB Review, Request for Comments

SUMMARY: In accordance with the Paperwork Reduction Act of 1995 (44 U.S.C. Chapter 35), the Railroad Retirement Board (RRB) is forwarding two (2) Information Collection Requests (ICR) to the Office of Information and Regulatory Affairs (OIRA), Office of Management and Budget (OMB) to request extensions without change of currently approved collections of information. Our ICR describes the information we seek to collect from the public. Review and approval by OIRA ensures that we impose appropriate paperwork burdens.

The RRB invites comments on the proposed collections of information to determine (1) the practical utility of the collections; (2) the accuracy of the estimated burden of the collections; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date

1. Evidence of Marital Relationship—Living with Requirements; OMB 3220-0021. To support an application for a spouse or widow(er)'s annuity under Sections 2(c) or 2(d) of the Railroad Retirement Act, an applicant must submit proof of a valid marriage to a railroad employee. In some cases, the existence of a marital relationship is not formalized by a civil or religious ceremony. In other cases, questions may arise about the legal termination of a prior marriage of an employee, spouse, or widow(er). In these instances, the RRB must secure additional information to resolve questionable marital relationships. The circumstances requiring an applicant to submit documentary evidence of marriage are prescribed in 20 CFR 219.30.

In the absence of documentary evidence to support the existence of a valid marriage between a spouse or widow(er) annuity applicant and a railroad employee, the RRB needs to obtain information to determine if a valid marriage existed. The RRB utilizes Forms G-124, Statement of Marital Relationship; G-124a, Statement Regarding Marriage; G-237, Statement Regarding Marital Status; G-238, Statement of Residence; and G-238a, Statement Regarding Divorce or Annulment to secure the needed information. One response is requested of each respondent. Completion is required to obtain benefits.

Estimate of Annual Respondent Burden

The estimated annual respondent burden for the information collection is as follows:

Form #(s) | Annual responses | Time (min) | Burden (hrs)
G-124 (In person) | 125 | 15 | 31
G-124 (By mail) | 75 | 20 | 25
G-124a | 300 | 10 | 50
G-237 (In person) | 75 | 15 | 19
G-237 (By mail) | 75 | 20 | 25
G-238 (In person) | 150 | 3 | 8
G-238 (By mail) | 150 | 5 | 13
G-238a | 150 | 10 | 25
Total | 1,100 |  | 196

Previous Requests for Comments: The RRB has already published the initial 60-day notice (73 FR 48247 & 48248 on August 18, 2008) required by 44 U.S.C. 3506(c)(2). That request elicited no comments.

Information Collection Request (ICR)

Title: Evidence of Marital Relationship—Living with Requirements.

OMB Control Number: OMB 3220-0021.

Form(s) submitted: G-124, G-124a, G-237, G-238, G-238a.

Expiration date of current OMB clearance: 12/31/2008.

Type of request: Extension of a currently approved collection of information.

Affected public: Individuals or households.

Abstract: Under the RRA, to obtain a benefit as a spouse of an employee annuitant or as the widow(er) of the deceased employee, applicants must submit information to be used in determining if they meet the marriage requirements for such benefits. The collection obtains information supporting claimed common-law marriage, termination of previous marriages and residency requirements.

Changes Proposed: The RRB proposes no changes to the forms in the collection.

The burden estimate for the ICR is as follows:

Estimated annual number of respondents: 1,100.

Total annual responses: 1,100.

Total annual reporting hours: 196.

2. Evidence for Application of Overall Minimum: OMB 3220-0083.

Under Section 3(f)(3) of the Railroad Retirement Act (RRA), the total monthly benefits payable to a railroad employee and his/her family are guaranteed to be no less than the amount which would be payable if the employee's railroad service had been covered by the Social Security Act. The Social Security Overall Minimum Guarantee is prescribed in 20 CFR 229. To administer this provision, the Railroad Retirement Board (RRB) requires information about a retired employee's spouse and child(ren) who would not be eligible for benefits under the RRA but would be eligible for benefits under the Social Security Act if the employee's railroad service had been covered by that Act. The RRB obtains the required information by the use of forms G-319 (Statement Regarding Family and Earnings for Special Guaranty Computation) and G-320 (Statement by Employee Annuitant Regarding Student Age 18-19). One form is completed by each respondent.

Estimate of Annual Respondent Burden

The estimated annual respondent burden for the information collection is as follows:

Form #(s) | Annual responses | Time (min) | Burden (hrs)
G-319 Employee completed:
With assistance | 5 | 26 | 2
Without assistance | 100 | 55 | 92
G-319 Spouse completed:
With assistance | 5 | 30 | 3
Without assistance | 100 | 60 | 100
G-320 (Age 18 at Special Guaranty begin date or Special Guaranty Age 18 Attainments) | 95 | 15 | 24
(Student monitoring done in Sept, March, and at end of school year) | 170 | 15 | 43
Total | 475 |  | 264

Previous Requests for Comments: The RRB has already published the initial 60-day notice (73 FR 37515 & 37516 on July 1, 2008) required by 44 U.S.C. 3506(c)(2). That request elicited no comments.

Information Collection Request (ICR)

Title: Evidence for Application for Overall Minimum.

OMB Control Number: OMB 3220-0083.

Form(s) submitted: G-319, G-320.

Expiration date of current OMB clearance: 12/31/2008.

Type of request: Extension of a currently approved collection of information.

Affected public: Individuals or households.

Abstract: Under Section 3(f)(3) of the Railroad Retirement Act, the total monthly benefits payable to a railroad employee and his family are guaranteed to be no less than the amount which would be payable if the employee's railroad service had been covered by the Social Security Act.

Changes Proposed: The RRB proposes no changes to the forms in the collection.

The burden estimate for the ICR is as follows:

Estimated annual number of respondents: 475.

Total annual responses: 475.

Total annual reporting hours: 264.

Additional information or comments: Copies of the form and supporting documents can be obtained from Charles Mierzwa, the agency clearance officer at (312-751-3363) or Charles.Mierzwa@rrb.gov.

Comments regarding the information collection should be addressed to Ronald J. Hodapp, Railroad Retirement Board, 844 North Rush Street, Chicago, Illinois, 60611-2092 or Ronald.Hodapp@rrb.gov and to the OMB Desk Officer for the RRB, at the Office of Management and Budget, Room 10230, New Executive Office Building, Washington, DC 20503.

Charles Mierzwa,
Clearance Officer.

[FR Doc. E8-29635 Filed 12-12-08; 8:45 am]

BILLING CODE 7905-01-P